DEPARTMENT OF HEALTH AND HUMAN SERVICES

Office of the Secretary

Additional Action on Findings of Scientific Misconduct

AGENCY: Office of the Secretary, HHS.

ACTION: Notice.

SUMMARY: Notice is hereby given that the Office of Research Integrity (ORI) and the Assistant Secretary for Health have taken final additional action in the following case:

Kuei-Fu (Tom) Lin, D.V.M., Medical University of South Carolina (MUSC): Based on the report of an investigation conducted by MUSC and additional analysis conducted by ORI in its oversight review, the U.S. Public Health Service (PHS) found on June 12, 2001, that Dr. Lin, a former graduate student, Department of Biochemistry and Molecular Biology at MUSC, engaged in scientific misconduct in research supported by the National Heart, Lung, and Blood Institute (NHLBI), National Institutes of Health (NIH), grants R01 HL29397, “Regulation and Function of Renal Kallikrein,” and R01 HL56686, “Gene Therapy in Experimental Hypertension and Renal Diseases,” by falsifying data published in publications in Hypertension 26:847-853, 1995, Hypertension Research 20:269-277, 1997, and Human Gene Therapy 9:1429-1438, 1998.

Subsequent to the execution of a three-year Voluntary Exclusion Agreement (Agreement), Dr. Lin continued to receive PHS funds through April 30, 2003, in material violation of the Agreement. Based on Dr. Lin's aforementioned violation, and in lieu of initiation of debarment proceedings authorized by 45 CFR § 76.305(c)(4) for Dr. Lin's violation of a material provision of the Agreement, the parties have agreed to extend the term of Dr. Lin's voluntary exclusion through April 29, 2007.

FOR FURTHER INFORMATION CONTACT: Director, Division of Investigative Oversight, Office of Research Integrity, 5515 Security Lane, Suite 700, Rockville, MD 20852, (301) 443-5330.

Chris Pascal, J.D.,
Director, Office of Research Integrity.

[FR Doc. 03-30536 Filed 12-8-03; 8:45 am]

BILLING CODE 4150-31-P